INTERNATIONAL TRADE COMMISSION

[Investigation No. 731-TA-739 (Second Review)]

Clad Steel Plate From Japan; Determination

On the basis of the record ¹ developed in the subject five-year review, the United States International Trade Commission (Commission) determines,² pursuant to section 751(c) of the Tariff Act of 1930 (19 U.S.C. 1675(c)), that revocation of the antidumping duty order on clad steel plate from Japan would be likely to lead to continuation or recurrence of material injury to an industry in the United States within a reasonably foreseeable time.

¹ The record is defined in sec. 207.2(f) of the Commission's Rules of Practice and Procedure (19 CFR 207.2(f)).

² Commissioners Jennifer A. Hillman and Irving A. Williamson not participating.

Background

The Commission instituted this review on October 2, 2006 (71 FR 57996), and determined on January 5, 2007, that it would conduct an expedited review (72 FR 2554, January 19, 2007).

The Commission's public report Clad Steel Plate from Japan (Inv. No. 731-TA-739) (Second Review), USITC Publication 3907, March 2007) will contain the views of the Commission developed during the review.

By order of the Commission.
Issued: March 5, 2007.
Marilyn R. Abbott,
Secretary to the Commission.

[FR Doc. E7-4144 Filed 3-7-07; 8:45 am]

BILLING CODE 7020-02-P